INTERNATIONAL TRADE COMMISSION

[USITC SE-13-033]

Government in the Sunshine Act Meeting Notice

AGENCY HOLDING THE MEETING: International Trade Commission.

TIME AND DATE: December 13, 2013 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-509 and 731-TA-1244 (Preliminary) (1,1,1,2-Tetrafluroethane from China). The Commission is currently scheduled to complete and file its determinations and views on or before December 13, 2013; Commissioners' opinions will be issued on December 20, 2013.

5. Outstanding action jackets: none

In accordance with Commission policy, subject matter listed above, not disposed of at the scheduled meeting, may be carried over to the agenda of the following meeting.

By order of the Commission.
Issued: December 5, 2013.
Lisa R. Barton,
Acting Secretary to the Commission.

[FR Doc. 2013-29417 Filed 12-5-13; 4:15 pm]

BILLING CODE 7020-02-P